FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011539-017.

Title: Norasia Group/HLAG Space Charter and Sailing Agreement.

Parties: Companhia Libra de Navegacao (Libra); Compania Sud Americana de Vapores, S.A. (CSAV); Compania Libra de Navegacion Uruguay S.A.; Hapag-Lloyd AG.; and Norasia Container Lines Limited.

Filing Party: Wayne R. Rohde, Esq.; Cozen O'Connor; 1627 I Street NW., Suite 1100; Washington, DC 20006.

Synopsis: The amendment would add NYK as a party to the Agreement and revise the vessel provision and space allocation provisions accordingly. The Amendment would also increase the number and size of vessels the parties are authorized to operate, extend the minimum duration of the Agreement and delete obsolete material. The Amendment also changes the name of the Agreement, and restates the Agreement.

Agreement No.: 012301-001.

Title: Siem Car Carriers AS/Volkswagen Logistics GMBH & Co. Space Charter Agreement.

Parties: Siem Car Carriers AS and Volkswagen Logistics GMBH & Co.

Filing Party: Ashley W. Craig, Esq. and Elizabeth K. Lowe, Esq.; Venable LLP; 575 Seventh Street NW., Washington, DC 20004.

Synopsis: The amendment revises the geographic scope of the agreement to include Germany, Canada, and the U.S. East and Gulf Coasts.

Agreement No.: 012315.

Title: NYK/CSAV/Europe/North America Space Charter Agreement.

Parties: Nippon Yusen Kaisha and Campania Sud Americana De Vapores S.A.

Filing Party: Robert Shababb, Corporate Counsel, NYK Line (North America) Inc.; 300 Lighting Way, 5th Floor; Secaucus, NJ 07094.

Synopsis: The agreement authorizes NYK and CSAV to charter space to each other for the transportation of vehicles and other cargo in the trade from Belgium, Germany, UK, and Spain, on the one hand, to the U.S. East and Gulf Coasts, on the other hand.

Dated: January 30, 2015.
By Order of the Federal Maritime Commission.
Rachel E. Dickon,
Assistant Secretary.

[FR Doc. 2015-02195 Filed 2-3-15; 8:45 am]

BILLING CODE 6730-01-P